DEPARTMENT OF COMMERCE

National Oceanic and Atmospheric Administration

[I.D. 090403F]

Pacific Fishery Management Council; Public Meeting; Correction

AGENCY: National Marine Fisheries Service (NMFS), National Oceanic and Atmospheric Administration (NOAA), Commerce.

ACTION: Notice of an addition to a public meeting notice.

SUMMARY: The Pacific Fishery Management Council (Council) will convene a public meeting of the Ad Hoc Vessel Monitoring System (VMS) Committee.

DATES: The Ad Hoc VMS Committee will meet Tuesday, October 7, 2003 beginning at 8:30 a.m. and continuing until business for the day is completed.

ADDRESSES: The meeting will be held in the West Conference Room at the Pacific Fishery Management Council, 7700 NE Ambassador Place, Suite 200, Portland, OR 97220-1384; telephone: (503) 820-2280.

FOR FURTHER INFORMATION CONTACT: Mr. Mike Burner, Pacific Fishery Management Council Groundfish Staff Officer; telephone: (503) 820-2280.

SUPPLEMENTARY INFORMATION: The initial notification of this meeting was published in the Federal Register on September 15, 2003, (68 FR 53966). The following addition is being made to the agenda:

We will discuss the adoption of transiting only requirements for fixed gear vessels in the non-trawl RCA.

All other information previously published remains the same.

Dated: September 15, 2003.
Richard W. Surdi,
Acting Director, Office of Sustainble Fisheries, National Marine Fisheries Service.

[FR Doc. 03-23992 Filed 9-18-03; 8:45 am]

BILLING CODE 3510-22-S